ENVIRONMENTAL PROTECTION AGENCY

[FRL-6911-5]

Notice of Request for Comments on State, Regulated Community, and Small Business Cost Resulting From the TMDL Program

AGENCY: Environmental Protection Agency.

ACTION: Notice for solicitation of comments.

SUMMARY: The Environmental Protection Agency (EPA) is soliciting comments on State resources required for development and implementation of Total Maximum Daily Loads (TMDLs), estimated annual costs to the regulated community, and estimated costs to small businesses resulting from regulatory changes to the TMDL program. Under the Clean Water Act (CWA), States establish water quality standards for water bodies. The CWA provides a range of mechanisms to support the attainment and maintenance of these standards (e.g. discharge permits, financial assistance, etc.). A TMDL is a mechanism for determining a cost-effective combination of steps that will result in a polluted water body being restored and attaining water quality standards. Congressional Committee Reports accompanying EPA's appropriation for fiscal year 2001 direct EPA to conduct a comprehensive assessment of State and regulated community costs related to TMDLs, to solicit comments from the States and general public on these costs, and to present the results of the study to Congress within 120 days of the signing of the appropriation bill. The information submitted in response to this notice will be used by EPA in the development of the report that EPA must send to the Congress.

DATES: EPA will consider all comments received on or before 11:59 p.m.(Eastern time) January 3, 2001. Comments received after this time may be reviewed at EPA's discretion.

ADDRESSES: Please send electronic mail to ow-docket@epa.gov. Please send mailed comments to: W-00-31 Comment Clerk, Water Docket (MC 4101); U.S. Environmental Protection Agency; 1200 Pennsylvania Avenue, NW; Washington, DC 20460. Overnight delivery or hand delivery should be delivered to EPA's Water Docket at 401 M Street, SW; Room EB57; Washington, DC, 20460. Please see SUPPLEMENTARY INFORMATION for other information about comments.

FOR FURTHER INFORMATION CONTACT: Michael Haire by phone at (202) 260-2734 or e-mail at Haire.Michael@epa.gov.

SUPPLEMENTARY INFORMATION:

What Does the Appropriation Bill Require?

On October 27, 2000, the President signed EPA's appropriation bill for fiscal year 2001. The Committee Reports for that bill require EPA to conduct three assessments related to TMDLs, one of which pertains to costs to States and the regulated community. The Conference Committee Report, House Report 106-988 (H.R. 4635), states:

. . . Further, EPA is directed to conduct a comprehensive assessment of the potential State resources which will be required for the development and implementation of TMDLs and present the results of the study to Congress within 120 days of enactment of this Act. In conducting this cost assessment, EPA must, in addition to direction included in Senate Report 106-410, provide an estimate of the annual costs to the regulated community in both the private and public sectors; address concerns regarding the economic analysis performed by the Administrator on regulatory changes to the TMDL program that were identified by the Comptroller General in a June 21, 2000, report; and estimate the costs to small businesses that would result from regulatory changes to the TMDL program. In conducting these analyses, the Administrator shall solicit comment from the Comptroller General, each State, and the public regarding the Agency's assessment.

The Senate Committee Report, Senate Report 106-410, states:

TMDLs Cost Assessment.—To obtain better cost information, the Committee directs EPA to conduct a comprehensive assessment of the potential State resources which will be required for the development and implementation of TMDLs and present the results of this study to Congress within 120 days of enactment of this Act. At a minimum, the report should (1) identify any expected increase in State personnel needed to develop and implement 40,000 TMDLs; (2) specify additional data collection activities to make listing decisions; (3) identify the cost of conducting the needed studies to collect high quality data on the current loads from sources (point and nonpoint sources) of a pollutant on 303(d) listed waters slated for TMDL development; and (4) provide an estimate of the annual costs to the private sector due to TMDL implementation and related costs.

What Is the Purpose of This Notice?

As required by the Congress, EPA is in the process of developing the assessment of State costs in developing and implementing TMDLs, regulated community costs resulting from TMDLs, and costs to small businesses that will result from the July 2000 regulatory changes to the TMDL program. (See 65 FR 43585-43670, July 13, 2000, which is available at http://www.epa.gov/owow/tmdl/july2000.html.) EPA will also address the concerns expressed by the Comptroller General on EPA's costs assessment for the July 2000 rule. The Comptroller General's comments can be found on the Internet at http://www.gao.gov/cgi-bin/getrpt?GAO/RCED-00-206R.

EPA solicits information on the topics (above) that EPA is addressing. In particular, EPA is looking for comments and information on:

• the costs to States and Territories for developing and implementing TMDLs; including any savings that may be associated with use of a TMDL to achieve the water quality goals of the CWA, as opposed to other provisions of the Act, and the potential need for additional information to assess current loads. You may want to view EPA's assessment model for State costs under the current TMDL program at http://www.asiwpca.org/policy/index.htm#WQ;

• the costs to the regulated community in both the private and public sectors for complying with TMDLs, including any savings that may result from more cost-effective pollution control approaches developed through the TMDL process (e.g. use of more cost-effective control mechanisms, coordination of program requirements and time lines for a water body, and integration of pollution control planning for multiple water bodies with common pollution problems);

• the costs to small businesses that would result from the July 2000 regulatory changes to the TMDL program. You may want to review EPA's assessment of the potential affect of this rule on small businesses. (See 65 FR 43654-43656, July 13, 2000, which is available at http://www.epa.gov/owow/tmdl/july2000.html);

• the concerns expressed by the Comptroller General on EPA's costs assessment for the July 2000 rule. You may want to review EPA's assessment of these costs in EPA's docket W-98-31 located at the Water Docket, Room EB57, 401 M Street, SW, Washington, DC; and

• any additional data collection efforts you believe are required by the July 2000 regulation to make listing decisions.

Due to the need to conduct and submit the assessments within 120 days, and the requirement to solicit comments, EPA has decided to request comments early in the process of developing the assessments. EPA believes, given the short time allowed to submit the report and the significant information now available, that this process provides an opportunity for the public to submit information that EPA will consider in the drafting of the report, and thus will lead to a better report.

How Can You Submit Comments?

You may submit comments by mail, e-mail, or delivered by hand to the addresses shown in the ADDRESS section of this notice. EPA will not accept facsimiles (faxes). If you mail or hand deliver comments, please send an original and three copies of your comments and enclosures (including references). If you want receipt of your comments acknowledged, you must include a self-addressed, stamped envelope.

You may also submit your comments by sending an e-mail to ow-docket@epa.gov or by disk. If you do, you must submit electronic comments as an ASCII file, or a WordPerfect 5.1, WordPerfect 6.1, or WordPerfect 8 file avoiding the use of special characters and any form on encryption, and identify these comments by the docket number “W-00-31” on the subject line. You may file electronic comments on this notice at many Federal Depository Libraries. You should not send confidential business information by e-mail.

The information received in response to this notice will be filed under docket number W-00-31, and includes referenced documents as well as printed, paper versions of electronic comments. The record is available for inspection from 9 to 4 p.m., Monday through Friday, excluding legal holidays at the Water Docket, EB57, U.S. Environmental Protection Agency Headquarters, 401 M., Washington, DC. For access to docket materials, please call (202) 260-3027 to schedule an appointment.

Dated: November 28, 2000.
Robert H. Wayland III,
Director, Office of Wetlands, Oceans, and Watersheds.

[FR Doc. 00-30908 Filed 12-1-00; 8:45 am]

BILLING CODE 6560-50-P